DEPARTMENT OF COMMERCE

Economic Development Administration

Notice of Petitions by Producing Firms for Determination of Eligibility To Apply for Trade Adjustment Assistance

AGENCY: Economic Development Administration, Department of Commerce.

ACTION: Notice and opportunity for public comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period November 4, 2005 Through December 14, 2005
Firm | Address | Date petition accepted | Product
La Rinascente Pasta, LLC | 808 Natali Drive, Hope, ND 58046 | 11/4/05 | Pasta.
Pantaloni Manufacturing, Inc | 320 South Washington Street, Boyertown, PA 19512 | 11/9/05 | Men's and women's clothing.
Haven Manufacturing Corp | 370 Sterling Industrial Road, Brunswick, GA 31525 | 11/14/05 | Pipe and metal tubing cutting, processing and inspection machinery.
Automotive Lifts and Machinery, Corp | 200 Benchmark Industrial Drive, Streator, IL 61364 | 11/18/05 | Hydraulic automotive lifting jacks and hoists for cars and trucks.
Glaspro, Inc, dba Zap Skimers | 101 Pond Cypress Road, Venice, FL 34292 | 11/21/05 | Recreational skimboards and surfboards.
Latronics Corp | 1001 Lloyd Avenue, P.O. Box 469, Latrobe, PA 15650 | 11/21/05 | Hermetic seals and machined components.
Comdaco, Inc | 2000 N. Jesse James Road, Excelsior Springs, MO 64024 | 11/29/05 | Rubber gaskets, washers and seals.
Cap America, Inc | One Cap America Drive, Fredericktown, MO 63645 | 11/29/05 | Caps.
Catawissa Lumber & Specialty Co., Inc | 1 Cemetery Street, P.O. Box 176, Catawissa, PA 17820 | 11/4/05 | Hardwood furniture and kitchen components.
Genesee Group NY, Inc | 975 John Street, West Henrietta, NY 14586-9780 | 12/2/05 | Metal parts and accessories.
Treatco, Inc | 2300 N. Broadway Street, Wichita, KS 67219 | 12/2/05 | Natural pet treats.
Hypogard USA, Inc | 7301 Ohms Lane, Suite 200, Edina, MN 55439-2335 | 12/7/05 | Blood glucose and urine monitoring strips for diabetic testing.
Northwest Seed, Inc | Hwy 111 W., P.O. Box 335, Oregon, MO 64473 | 12/13/05 | Soy nut snack foods.
Frankoma, Inc | 9549 Frankoma Road, P.O. Box 789, Sapulpa, OK 74066 | 12/2/05 | Ceramic tableware.
Dyecraftsmen, Inc | 437 Whittenton Street, P.O. Box 551, Tauton, MA 02780 | 12/13/05 | Dyed yarn.
Wald LLC | 800 East 5th Street, Maysville, KY 41056 | 12/13/05 | Bicycle components.
Touchstone Designs, LLC | 7249 Commerce Drive, Mentor, OH 44060 | 12/14/05 | Electric lamps and lighting fixtures,
Wilkes Pools Corporation | Interstate 80, Exit 242, Mifflinville, PA 18631 | 12/14/05 | Swimming pools.

Any party having a substantial interest in the proceedings may request a public hearing on the matter. A written request for a hearing must be submitted to the Office of Chief Counsel, Room 7005, Economic Development Administration, U.S. Department of Commerce, Washington, DC 20230, no later than ten (10) calendar days following publication of this notice. Please follow the procedures set forth in section 315.9 of EDA's interim final rule (70 FR 47002) for procedures for requesting a public hearing. The Catalog of Federal Domestic Assistance official program number and title of the program under which these petitions are submitted is 11.313, Trade Adjustment Assistance.

Dated: December 14, 2005.
Benjamin Erulkar,
Chief Counsel.

[FR Doc. E5-7554 Filed 12-19-05; 8:45 am]

BILLING CODE 3510-24-P